DEPARTMENT OF COMMERCE

Foreign-Trade Zones Board

[B-83-2013]

Foreign-Trade Zone (FTZ) 138—Columbus, Ohio; Notification of Proposed Production Activity; Rolls Royce Energy Systems, Inc. (Industrial Gas Turbines, Power Generation Turbines, and Generator Sets); Mount Vernon, Ohio

The Columbus Regional Airport Authority, grantee of FTZ 138, submitted a notification of proposed production activity to the FTZ Board on behalf of Rolls Royce Energy Systems, Inc. (RRES), located in Mount Vernon, Ohio. The notification conforming to the requirements of the regulations of the FTZ Board (15 CFR 400.22) was received on September 5, 2013.

The RRES facility is located within Site 25 of FTZ 138. The facility is used for the production of industrial gas turbines, power generation turbines, and generator sets. Pursuant to 15 CFR 400.14(b), FTZ activity would be limited to the specific foreign-status components and specific finished products described in the submitted notification (as described below) and subsequently authorized by the FTZ Board.

Production under FTZ procedures could exempt RRES from customs duty payments on the foreign status components used in export production. On its domestic sales, RRES would be able to choose the duty rates during customs entry procedures that apply to industrial gas turbines, power generation turbines, generator sets, and related parts (free, 2.4%, and 2.5%) for the foreign status inputs noted below. Customs duties also could possibly be deferred or reduced on foreign status production equipment.

The components sourced from abroad include: AC generators; industrial gas turbines; turbine bases; acoustic enclosures; gearboxes (transmissions); and combustion liners (duty rates—2.4%, 2.5%).

Public comment is invited from interested parties. Submissions shall be addressed to the FTZ Board's Executive Secretary at the address below. The closing period for their receipt is November 4, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: September 18, 2013.
Andrew McGilvray,
Executive Secretary.

[FR Doc. 2013-23387 Filed 9-24-13; 8:45 am]

BILLING CODE 3510-DS-P